Title 3—

The President

Proclamation 7919 of August 29, 2005

National Ovarian Cancer Awareness Month, 2005

By the President of the United States of America

A Proclamation

Ovarian cancer is one of the leading causes of cancer deaths among women in the United States. Each year, thousands of women are diagnosed with ovarian cancer, and thousands die from the disease. During National Ovarian Cancer Awareness Month, we strive to raise awareness of ovarian cancer and promote early detection and treatment of this disease.

Early detection is essential to the successful treatment of ovarian cancer. The 5-year survival rate is higher than 90 percent for ovarian cancer patients whose disease is caught during the first stage of development. Most ovarian cancer cases are diagnosed at an advanced stage, however, because no reliable screening test exists for the disease. Because the early signs of ovarian cancer are easy to miss and often resemble the signs of other conditions, it is important for women to talk with their doctors about detection and be aware of the risk factors and symptoms of this cancer.

There is more we need to learn about how best to prevent, detect, and treat ovarian cancer. The National Cancer Institute (NCI) is currently sponsoring a study on genetic and environmental factors that may increase the risk of ovarian cancer. In addition, the NCI is sponsoring clinical trials to explore new ways to screen for and detect ovarian cancer. Researchers are studying new treatment options, including biological therapies, anticancer drugs, vaccines, and other therapies to treat resistant forms of ovarian cancer. The Centers for Disease Control and Prevention will spend almost $4.6 million, and the Department of Defense's Ovarian Cancer Research Program will invest an estimated $10 million.

As we observe National Ovarian Cancer Awareness Month, we recognize the courage and strength of women battling ovarian cancer, and of their families and friends who love and support them. Our Nation is grateful for the hard work and commitment of our dedicated researchers and medical professionals. With continued effort, we can raise awareness of ovarian cancer and find new ways to prevent and treat this deadly disease.

NOW, THEREFORE, I, GEORGE W. BUSH, President of the United States of America, by virtue of the authority vested in me by the Constitution and laws of the United States, do hereby proclaim September 2005 as National Ovarian Cancer Awareness Month. I call upon government officials, businesses, communities, health care professionals, educators, volunteers, and all people of the United States to continue our Nation's strong commitment to preventing and treating ovarian cancer.

IN WITNESS WHEREOF, I have hereunto set my hand this twenty-ninth day of August, in the year of our Lord two thousand five, and of the Independence of the United States of America the two hundred and thirtieth.

B

[FR Doc. 05-17497

Filed 8-30-05; 10:36 am]

Billing code 3195-01-P